DEPARTMENT OF TRANSPORTATION

Surface Transportation Board

[STB Finance Docket No. 34505]

East Brookfield & Spencer Railroad, LLC—Lease and Operation Exemption—CSX Transportation, Inc.

East Brookfield & Spencer Railroad, LLC (EB&SR), a noncarrier, has filed a verified notice of exemption under 49 CFR 1150.31 to lease, from CSX Transportation, Inc. (CSXT), and operate approximately 4 miles of rail line. The line is a portion of CSXT's passing track located between mileposts 60 and 64 in East Brookfield and Spencer, Worcester County, MA, together with approximately 270 feet of lead track running from the passing track at milepost 63.08 to the property line of the proposed New England Automotive Gateway Facility (Facility) in East Brookfield, MA.¹

¹ As part of the lease agreement between CSXT and EB&SR, CSXT will retain certain rights to operate over the line to serve the Facility, and to use the track in the event of an operating emergency.

EB&SR certifies that its projected revenues as a result of this transaction will not exceed those that would qualify it as a Class III rail carrier and states that such revenues will not exceed $5 million annually. The transaction was scheduled to be consummated on May 19, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34505, must be filed with the Surface Transportation Board, 1925 K Street, NW., Washington, DC 20423-0001. In addition, a copy of each pleading must be served on Betty Jo Christian, Steptoe & Johnson, LLP, 1330 Connecticut Ave., NW., Washington, DC 20036.

Board decisions and notices are available on our Web site at http://www.stb.dot.gov.

Decided: June 1, 2004.
By the Board, David M. Konschnik, Director, Office of Proceedings.
Vernon A. Williams,
Secretary.

[FR Doc. 04-12766 Filed 6-7-04; 8:45 am]

BILLING CODE 4915-01-P